DEPARTMENT OF HOUSING AND URBAN DEVELOPMENT

[Docket No. FR-5835-N-28]

60-Day Notice of Proposed Information Collection: Multifamily Family Self-Sufficiency (MF FSS) Program Escrow Credit Data

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 8, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Danielle Garcia, Branch Chief, Subsidy Oversight Branch, Assisted Housing Oversight Division, Office of Asset Management and Portfolio Oversight, Office of Multifamily Housing Programs, Department of Housing and Urban Development, 451 7th Street SW., Washington, DC 20410; email Danielle.D.Garcia@hud.gov or telephone 202-402-2768. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Multifamily Family Self-Sufficiency Program Escrow Credit Data.

OMB Approval Number: Pending.

Type of Request: This is a new collection.

Form Number: Sample attached: Sample MF FSS Reporting Tool

Description of the need for the information and proposed use:

Multifamily Family Self-Sufficiency (MF FSS) is a HUD program that enables families living in multifamily assisted housing to increase their earned income and reduce their dependence on public assistance programs. MF FSS promotes the development of local strategies to coordinate the use of HUD rental assistance programs with public and private resources, to enable eligible families to achieve economic independence and self-sufficiency.

HUD's Appropriations Act of 2015 allows owners of privately owned multifamily properties with a Section 8 contract to voluntarily make a Family Self-Sufficiency program available to assisted tenants in accordance with procedures established by the Secretary, including those procedures permitting tenants to accrue escrow funds in accordance with section 23(d)(2) of the U.S. Housing Act of 1937. Owners of privately-owned HUD assisted multifamily housing can voluntarily establish and operate a MF FSS program at their housing sites. Participation in the MF FSS program is voluntary for families living in these properties.

FSS families are referred to services and educational opportunities that can lead to improved employment and earned income. Such services might include child care, transportation, education, job training, employment counseling, financial literacy, and homeownership counseling.

Families entering the FSS program work with a case manager to develop goals that will lead to self-sufficiency within a 5-year period. These goals may include education, specialized training, and job readiness, placement, and career advancement activities. Families sign a five year contract of participation (CoP) with the owner. Goals for each participating family member are set out in Individual Training and Services plans (ITSP) that are part of the CoP. When the family meets its goals and completes its FSS contract, the family becomes eligible to receive funds deposited in an escrow account.

The owner establishes an interest-bearing escrow account for each participating family. If a family's earned income and rental payments increase as a result of participation in the FSS, the owner will credit the incremental earned income amount to the family's escrow account. Once a family successfully graduates from the program, they may access the escrow funds and use them for any purpose.

Respondents

Owners of privately-owned HUD assisted multifamily housing who voluntarily establish and operate a MF FSS program at their housing sites.

Estimated Number of Respondents: 2,000.

Estimated Number of Responses: 8,000.

Frequency of Response: Quarterly.

Average Hours per Response: 1 hour.

Total Estimated Burdens: 8,000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 2, 2015.
Janet M. Golrick,
Associate General Deputy Assistant Secretary for Housing—Associate Deputy Federal Housing Commissioner.

[FR Doc. 2015-31201 Filed 12-9-15; 8:45 am]

BILLING CODE 4210-67-P